DEPARTMENT OF JUSTICE

Notice of Lodging of a Bankruptcy Settlement Agreement Pursuant to the Comprehensive Environmental Response, Compensation, and Liability Act

Notice is hereby given that a proposed Stipulation Between Reorganized Debtor and the Environmental Protection Agency Regarding Settlement of Dispute Related to Any and All Claims of the Environmental Protection Agency (hereinafter “Bankruptcy Settlement Agreement”) in In re Velie Circuits, Inc., Chap. 11, Case No. SA 96-11768 LR, was lodged on or about October 9, 2001, with the United States Bankruptcy Court for the Central District of California, Santa Ana Division. The proposed Bankruptcy Settlement Agreement would resolve the United States' claims under section 107 of the Comprehensive Environmental Response, Compensation, and Liability Act of 1980, 42 U.S.C. 9607, as amended, against the debtor related to response costs incurred by the Environmental Protection Agency in connection with the release of hazardous substances at the Omega Chemical Superfund Site (“Site”) in Whittier, California. In its proof of claim, the United States alleged that the debtor is liable as a person who, by contract, agreement, or otherwise, arranged for the disposal of hazardous substances at the Site. Under the proposed Bankruptcy Settlement Agreement, the debtor will grant the United States an allowed general unsecured claim in the bankruptcy in the amount of $80,000. The United States will be made current relative to past distributions made to general unsecured claimants, and will thereafter share, pro-rate in all future distributions made to general unsecured payments.

The Department of Justice will receive, for a period of thirty (30) days from the date of this publication, comments relating to the proposed Bankruptcy Settlement Agreement. Comments should be addressed to the Assistant Attorney General for the Environment and Natural Resources Division, Department of Justice, P.O. Box 7611, Washington, DC 20530, and should refer to In re Velie Circuits, Inc., Chap. 11, Case No. SA 96-11768 LR (USBC C.D. Cal.), DOJ Ref. #90-11-3-06529/1.

The Consent Decree may be examined at the Region 9 Office of the Environmental Protection Agency, 75 Hawthorne Street, San Francisco, CA 94105. A copy of the proposed Bankruptcy Settlement Agreement may be obtained by mail from the Consent Decree Library, Post Office Box 7611, Washington, DC 20044. In requesting copies please refer to the referenced case and enclose a check in the amount of $1.00 (25 cents per page reproduction costs), payable to the Consent Decree Library.

Ellen Mahan,
Assistant Section Chief, Environmental Enforcement Section, Environment and Natural Resources Division.

[FR Doc. 01-27201 Filed 10-29-01; 8:45 am]

BILLING CODE 4410-15-M